DEPARTMENT OF THE INTERIOR

Bureau of Land Management

[WY-040-1430-ES; WYW-146223]

Classification and Conveyance of Public Lands for Recreation and Public Purposes in Sweetwater County, Wyoming

AGENCY: Bureau of Land Management, Interior.

ACTION: Notice of realty action.

SUMMARY: The following public lands in Green River, Wyoming have been examined and found suitable for classification for conveyance to the City of Green River under the provisions of the Recreation and Public Purposes Act, as amended (43 U.S.C. 869 et seq.). The City of Green River intends to use the land for expansion of a landfill.

Sixth Principal Meridian, Sweetwater County, Wyoming

T. 17 N., R. 107 W.,

Section 4, lot 9.

The land described above contains 20.04 acres.

FOR FURTHER INFORMATION CONTACT: Patricia Hamilton, Rock Springs Field Office, Bureau of Land Management, 280 Highway 191 North, Rock Springs, Wyoming 82901. (307-352-0334)

SUPPLEMENTARY INFORMATION: The lands are not needed for Federal purposes. Conveyance is consistent with current BLM land use planning and would be in the public interest. The conveyance, when completed, will be subject to the following terms, conditions, and reservations:

1. Provisions of the Recreation and Public Purposes Act and to all applicable regulations of the Secretary of the Interior.

2. All valid existing rights documented on the official public land records at the time of patent issuance, including Right-of-Way Grant WYW-039247, to U.S. West Communications, for a communications line.

3. All minerals shall be reserved to the United States, together with the right to prospect for, mine, and remove the minerals.

4. A right-of-way for ditches and canals constructed by the authority of the United States.

5. The above described land has been conveyed for utilization as a solid waste disposal site. The site may contain small quantities of commercial and household hazardous waste as determined in the Resource Conservation and Recovery Act of 1976, as amended (43 U.S.C. 6901), and defined in 40 CFR 261.4 and 261.5. Although there is no indication these materials pose any significant risk to human health or the environment, future land uses should be limited to those which do not penetrate the liner or final cover of the landfill unless excavation is conducted subject to applicable State and Federal requirements.

6. The patentee shall comply with all applicable Federal and State laws, including laws dealing with the disposal, placement, or release of hazardous substances.

7. The patentee shall indemnify and hold harmless the United States against any legal liability or future costs that may arise out of any violation of such laws.

8. As a result of an investigation of the lands covered by an application the United States has determined, as of the date of the patent, that no hazardous substances are present on the property and that such determination has been certified by the appropriate State agency.

9. The land conveyed under § 2743.2 of this part shall revert to the United States unless substantially all of the lands have been used in accordance with the plan and schedule of development on or before the date five years after the date of conveyance.

10. If, at any time, the patentee transfers to another party ownership of any portion of the land not used for the purpose(s) specified in the application and the plan of development, the patentee shall pay the Bureau of Land Management the fair market value, as determined by the authorized officer, of the transferred portion as of the date of transfer, including the value of any improvements thereon.

11. No portion of the land covered by such patent shall under any circumstance revert to the United States if such portion has been used for solid waste disposal or for any other purpose that the authorized officer determines may result in the disposal, placement, or release of any hazardous substance.

12. The patentee, its successors or assigns, assumes all liability for and shall defend, indemnify, and save harmless the United States and its officers, agents, representatives, and employees (hereinafter referred to in this clause as the United States), from all claims, loss, damage, actions, causes of action, expense, and liability (hereinafter referred to in this clause as claims) resulting from, brought for, or on account of, any personal injury, threat of personal injury, or property damage received or sustained by any person or persons (including the patentee's employees) or property growing out of, occurring, or attributable directly or indirectly, to the disposal of solid waste on, or the release of hazardous substances from lot 9, section 4, T. 17 N., R. 107 W., 6th Principal Meridian, Wyoming, regardless of whether such claims shall be attributable to: (1) the concurrent, contributory, or partial fault, failure, or negligence of the United States, or (2) the sole fault, failure, or negligence of the United States.

There will be a decrease of 20.04 Federal acres within the Rock Springs Grazing Allotment. The three AUMs associated with the 20.04 acre parcel will be canceled. Mr. Leonard Hay, on behalf of the Rock Springs Grazing Association, has signed a waiver allowing for cancellation of the three federal AUMs from this allotment.

Upon publication of this notice in the Federal Register, the lands will be segregated from all other forms of appropriation under the public land laws, including the general mining laws, except for conveyance under the Recreation and Public Purposes Act and leasing under the mineral leasing laws.

For a 45 day period from the date of publication of this notice in the Federal Register, interested parties may submit comments regarding the proposed conveyance or classification of the lands to the Assistant Field Manager, Minerals & Lands, 280 Highway 191 North, Rock Springs, Wyoming 82901.

Classification Comments

Interested parties may submit comments involving the suitability of the land for a landfill. Comments on the classification are restricted to whether the land is physically suited for the proposal, whether the use will maximize the future use or uses of the land, whether the use is consistent with local planning and zoning, or if the use is consistent with State and Federal programs.

Application Comments

Interested parties may submit comments regarding the specific use proposed in the application and plan of development, whether the Bureau of Land Management followed proper administrative procedures in reaching the decision; or any other factor not directly related to the suitability of the land for a landfill. Any adverse comments will be reviewed by the State Director, who may sustain, vacate, or modify this realty action. In the absence of any objections, the classification will become effective 60 days from the date of publication of this notice in the Federal Register.

Dated: February 1, 2002.
Ted Murphy,
Assistant Field Manager, Minerals & Lands.

[FR Doc. 02-7847 Filed 4-1-02; 8:45 am]

BILLING CODE 4310-22-P